DEPARTMENT OF HEALTH AND HUMAN SERVICES

Administration for Children and Families

Proposed Information Collection Activity; Comment Request

Title: Responsible Fatherhood Reentry Strategies Study—Discussion Guides.

OMB No.: New Collection.

Description: The Administration for Children and Families (ACF), U.S. Department of Health and Human Services is proposing an information collection activity as part of a study of responsible fatherhood prisoner reentry pilot programs. This information collection will involve discussion of a range of topics with key informants in grantee and partner organizations such as their organizational structure, program services, populations served, and specific approaches under the grant programs, as well as with individuals who participate, eligible nonparticipants, and family members about their-circumstances and experiences.

Respondents: Semi-structured discussions will be held with administrators, managers and staff of responsible fatherhood prisoner reentry grant programs and of key partner or community agencies. Information may also be collected from participants, eligible non-participants, and family members.

Annual Burden Estimates
Instrument | Annual number of respondents | Number of responses per respondent | Average burden hours per response | Total annual burden hours
Discussion Guides | 150 | 1 | 1 | 150

Estimated Total Annual Burden Hours: 150.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 20, 2011.
Steven M. Hanmer,
Reports Clearance Officer.

[FR Doc. 2011-24536 Filed 9-23-11; 8:45 am]

BILLING CODE 4184-35-M